DEPARTMENT OF THE INTERIOR

National Park Service

Notice of Intent to Repatriate Cultural Items: Springfield Science Museum, Springfield, MA

AGENCY: National Park Service, Interior.

ACTION: Notice.

Notice is here given in accordance with the Native American Graves Protection and Repatriation Act (NAGPRA), 25 U.S.C. 3005, of the intent to repatriate cultural items in the possession of the Springfield Science Museum, Springfield, MA, that meet the definition of “unassociated funerary objects” under 25 U.S.C. 3001.

This notice is published as part of the National Park Service's administrative responsibilities under NAGPRA, 25 U.S.C. 3003 (d)(3). The determinations in this notice are the sole responsibilities of the museum, institution, or Federal agency that has control over the cultural items. The National Park Service is not responsible for the determinations in this notice.

The 111 cultural items are unassociated funerary objects removed from multiple sites in Arkansas, Crittendon, Cross, Jefferson, Lee, Lincoln, Mississippi, Phillips, Poinsett, and St. Francis Counties, AR, by C.B. Moore. Mr. Moore donated the cultural items to the Springfield Science Museum in 1908, 1910, 1911, and 1912.

At an unknown date, 18 cultural items were removed from Menard Mound (Arkansas site number 3AR4), Arkansas County, AR, by C.B. Moore. The 18 unassociated funerary objects are 1 pottery disk, 2 bird head pottery handles, 2 copper beads, 3 Mississippian Plain bottles, 1 Old Town bottle, 2 Carson Red on Buff bowls, 2 Mississippian Plain jars, 4 Mississippian Plain bowls, and 1 clay figurine with face.

At an unknown date, two cultural items were removed from Old River Landing, (Arkansas site number 3AR14), Arkansas County, AR, by C.B. Moore. The two unassociated funerary objects are one small Mississippian Plain dish and one Nodena Red and White bottle.

At an unknown date, one cultural item was removed from near Sawyer's Landing, Arkansas County, AR, by C.B. Moore. The one unassociated funerary object is a Mississippian Plain frog effigy bowl.

At an unknown date, one cultural item was removed from Bradley Place (Arkansas site number 3CT7), Crittenden County, AR, by C.B. Moore. The one unassociated funerary object is a Bell Plain effigy jar.

At an unknown date, four cultural items were removed from a mound in Crittenden County, AR, by C.B. Moore. The four unassociated funerary objects are pottery disks with drilled holes.

At an unknown date, three cultural items were removed from a cemetery at Jones Place (Arkansas site number 3CS25), Cross County, AR, by C.B. Moore. The three unassociated funerary objects are one Bell Plain jar/bottle, one Mississippian Plain bowl, and one Bell Plain pedestal bottle.

At an unknown date, one cultural item was removed from a cemetery at Parkin (Arkansas site number 3CS29), Cross County, AR, by C.B. Moore. The one unassociated funerary object is a Bell Plain bottle.

At an unknown date, four cultural items were removed from a cemetery at Neely's Ferry (Arkansas site number 3CS24), Cross County, AR, by C.B. Moore. The four unassociated funerary objects are one Mississippian Plain pedestal bottle, one Mississippian Plain bottle, and two Parkin Punctated jars.

At an unknown date, 16 cultural items were removed from Rose Mound (Arkansas site number 3CS27), Cross County, AR, by C.B. Moore. The 16 unassociated funerary objects are 2 Old Town red bottles, 1 small decorated bowl, 3 Bell Plain bottles, 2 Mississippian Plain bottles, 1 Bell Plain jar, 1 Bell Plain short bottle, 1 Mississippian Plain effigy jar, 1 Bell Plain fish effigy bottle, 1 Old Town red bowl, 1 Bell Plain tripod bottle, and 2 Mississippian Plain bowls.

At an unknown date, two cultural items were removed from Turkey Island (Arkansas site number 3CS78), Cross County, AR, by C.B. Moore. The two unassociated funerary objects are one Bell Plain effigy bowl and one wide-mouth pedestal bottle.

At an unknown date, three cultural items were removed from a mound near Turkey Island, Cross County, AR, by C.B. Moore. The three unassociated funerary objects are one sample of red ochre and two worked shells.

At an unknown date, 18 cultural items were removed from the Greer site (Arkansas site number 3JE50), Jefferson County, AR, by C.B. Moore. The 18 unassociated funerary objects are 5 Wallace Incised bowls, 5 Mississippian Plain bowls, 5 Wallace Incised bottles, 2 Mississippian Plain bottles, and 1 Old Town red effigy bottle.

At an unknown date, two cultural items were removed from a cemetery at Forest Place, Lee County, AR, by C.B. Moore. The two unassociated funerary objects are one Mississippian Plain teapot and one Mississippian Plain bottle.

At an unknown date, one cultural item was removed from Kent Place (Arkansas site number 3LE8), Lee County, AR, by C.B. Moore. The one unassociated funerary object is an Old Town red bottle.

At an unknown date, 11 cultural items were removed from a mound near Douglas (Arkansas site number 3LI19), Lincoln County, AR, by C.B. Moore. The 11 unassociated funerary objects are 1 Mississippian Plain bottle, 1 Mississippian Plain crucible, 1 Nodena Red and White bottle, and 8 shell beads.

At an unknown date, one cultural item was removed from a mound in Mississippi County, AR, by C.B. Moore. The one unassociated funerary object is a pottery disk.

At an unknown date, 13 cultural items were removed from Pecan Point (Arkansas site number 3MS78), Mississippi County, AR, by C. B. Moore. The 13 unassociated funerary objects are 6 pottery disks with drilled holes, 1 Bell Plain effigy bowl, 1 small Bell Plain jar, 1 wide mouth Bell Plain bottle, 1 Bell Plain bottle, 1 Carson Red on Buff bottle, and 2 Bell Plain pedestal bottles.

At an unknown date, one cultural item was removed from Avenue (Arkansas site number 3PH3), Phillips County, AR, by C.B. Moore. The one unassociated funerary object is a Nodena Red and White bottle.

At an unknown date, three cultural items were removed from a cemetery at Cummings Place, also known as Cummins Place (Arkansas site number 3PO5), Poinsett County, AR, by C.B. Moore. The three unassociated funerary objects are two Bell Plain bottles and one Mississippian Plain bottle.

At an unknown date, two cultural items were removed from Miller Mound (Arkansas site number 3PO24), Poinsett County, AR, by C.B. Moore. The two unassociated funerary objects are one Bell Plain pedestal bottle and one Bell Plain jar.

At an unknown date, four cultural items were removed from Castile Place (Arkansas site number 3SF12), St. Francis County, AR, by C.B. Moore. The four unassociated funerary objects are one Mississippian Plain bowl, two Mississippian Plain bottles, and one Parkin Punctated jar.

The Quapaw Tribe, prior to European contact and during the Historic period, resided along both sides of the Mississippi River until an epidemic swept through their villages in the latter part of the 17th century. The Quapaw consolidated their villages on the western side of the Mississippi River near the confluence of the White and Arkansas Rivers. The Quapaw maintained a presence in the Central Mississippi Valley until the tribe's removal to northwest Louisiana in 1824 when all of their land in the Territory of Arkansas was ceded to the United States. European documentation concerning the geographical range of the Quapaw supports their presence in Arkansas, including the 10 counties listed above. Present-day descendants of the Quapaw people are members of the Quapaw Tribe of Indians, Oklahoma.

Officials of the Springfield Science Museum have determined that, pursuant to U.S.C. 3001 (3)(B), the 111 cultural items described above are reasonably believed to have been placed with or near individual human remains at the time of death or later as part of the death rite or ceremony and are believed, by a preponderance of the evidence, to have been removed from a specific burial site of a Native American individual. Officials of the Springfield Science Museum also have determined that, pursuant to 25 U.S.C. 3001 (2), there is a relationship of shared group identity that can be reasonably traced between the unassociated funerary objects and the Quapaw Tribe of Indians, Oklahoma.

Representatives of any other Indian tribe that believes itself to be culturally affiliated with the unassociated funerary objects should contact David Stier, Director, Springfield Science Museum, 220 State Street, Springfield, MA 01103, (413) 263-6800, ext. 321, before March 9, 2007. Repatriation of the unassociated funerary objects to the Quapaw Tribe of Indians, Oklahoma may proceed after that date if no additional claimants come forward.

The Springfield Science Museum is responsible for notifying the Quapaw Tribe of Indians, Oklahoma that this notice has been published.

Dated: December 28, 2006.
Sherry Hutt,
Manager, National NAGPRA Program.

[FR Doc. E7-1969 Filed 2-6-07; 8:45 am]

BILLING CODE 4312-50-S